DEPARTMENT OF COMMERCE

National Oceanic and Atmospheric Administration

[RTID 0648-XF182]

North Pacific Fishery Management Council; Public Meeting

AGENCY: National Marine Fisheries Service (NMFS), National Oceanic and Atmospheric Administration (NOAA), Commerce.

ACTION: Notice of virtual meeting. Meetings of the North Pacific Fishery Management Council and its advisory committees.

SUMMARY: The North Pacific Fishery Management Council (Council) and its advisory committees will meet on September 29, 2025, through Friday, October 3, 2025, then resume on Monday, October 6, 2025, through Thursday, October 9, 2025.

DATES: The Council's Scientific and Statistical Committee (SSC) and the Council's Advisory Panel (AP) will begin at 8 a.m. on Monday, September 29, 2025, and continue through Thursday, October 2, 2025. The Council will begin at 8 a.m. on Thursday, October 2, 2025, to Friday, October 3, 2025, then resume on Monday, October 6, 2025, through Thursday, October 9, 2025. All listed times are Alaska Time.

ADDRESSES: The meetings will be a virtual conference. Join the meetings online through the links at https://www.npfmc.org/upcoming-council-meetings.

Council address: North Pacific Fishery Management Council, 1007 W 3rd Ave., Anchorage, AK 99501-2252; telephone: (907) 271-2809. Instructions for attending the meeting via video conference are given under the connection information below.

FOR FURTHER INFORMATION CONTACT: Diana Evans, Council staff; email: devans@npfmc.org, telephone: (907) 271-2809. For technical support, please contact our Council administrative staff, email: support@npfmc.org.

SUPPLEMENTARY INFORMATION:

Agenda

Monday, September 29, 2025, Through Thursday, October 2, 2025

The SSC agenda will include the following issues:

(1) Bering Sea Aleutian Island (BSAI) Crab Specifications—Review Ecosystem Status Report (ESR) and Stock Assessment and Fishery Evaluation (SAFE) Report, and Recommend Acceptable Biological Catch (ABC) and Overfishing Level (OFL) for crab stocks;

(2) Groundfish Harvest Specifications—Review Reports and Recommend Proposed ABC and OFL for groundfish stocks.

The agenda is subject to change, and the latest version will be posted at https://meetings.npfmc.org/Meeting/Details/3096 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the Office of Management and Budget Peer Review Bulletin guidelines.

Monday, September 29, 2025, Through Thursday, October 2, 2025

The Advisory Panel agenda will include the following issues:

(1) Maximum Retainable Amount (MRA) Adjustments—Review Final Action Analysis;

(2) Observer 2026 Annual Development Plan—Review Report, Committee Reports;

(3) Bering Sea Aleutian Island (BSAI) Crab Specifications—Review Stock Assessment and Fishery Evaluation (SAFE) Report, and Recommend Acceptable Biological Catch (ABC) and Overfishing Level (OFL) for crab stocks;

(4) Crab C-Shares—Initial Review Analysis;

(5) Groundfish Harvest Specifications—Review Reports and Recommend Proposed ABC, OFL, and Total Allowable Catch (TAC) for Groundfish Stocks; Review Proposal for Subarea Apportionments; Review Blackspotted/Rougheye (BSRE) Accountability Measures Discussion Paper;

(6) Economic Data Reports Removal—Initial Review/Final Action Analysis;

(7) Individual Fishing Quota (IFQ)/Community Quota Entity (CQE) Transfer, Beneficiary changes—Review Discussion Paper;

(8) Essential Fish Habitat 5-year Review Workplan—Review Report;

(9) Programmatic Evaluation—Discuss Next Steps;

(10) Staff Tasking.

Thursday, October 2, 2025, to Friday, October 3, 2025, To Resume on Monday, October 6, 2025, Through Thursday, October 9, 2025

The Council agenda will include the following issues. The Council may take appropriate action on any of the issues identified.

(1) B Reports (Executive Director including Council response to E.O. 14276 Restoring American Seafood Competitiveness, NMFS Management, NOAA General Counsel (GC), Alaska Fishery Science Center (AFSC), Alaska Department of Fish and Game (ADF&G), United States Coast Guard (USCG), United States Fish and Wildlife Service (USFWS), Advisory Panel, SSC report);

(2) MRA Adjustments—Review Final Action Analysis;

(3) Observer 2026 Annual Development Plan—Review Report, Committee Reports;

(4) Bering Sea Aleutian Island (BSAI) Crab Specifications—Review Stock Assessment and Fishery Evaluation (SAFE) Report, and Recommend Acceptable Biological Catch (ABC) and Overfishing Level (OFL) for crab stocks;

(5) Crab C-Shares—Initial Review Analysis;

(6) Groundfish Harvest Specifications—Review Reports and Recommend Proposed ABC, OFL, and Total Allowable Catch (TAC) for Groundfish Stocks; Review Proposal for Subarea Apportionments; Review Blackspotted/Rougheye (BSRE) Accountability Measures Discussion Paper;

(7) Economic Data Reports Removal—Initial Review/Final Action Analysis;

(8) BSAI Pacific Cod Pot Gear Limited Access Privilege Program (LAPP)—Review Discussion Paper;

(9) IFQ/CQE Transfer, Beneficiary changes—Review Discussion Paper;

(10) Essential Fish Habitat 5-year Review Workplan—Review Report;

(11) Programmatic evaluation—Discuss Next Steps;

(12) Staff Tasking.

Connection Information

You can attend the meeting online using a computer, tablet, or smart phone; or by phone only. Connection information will be posted online at: https://www.npfmc.org/upcoming-council-meetings. For technical support, please contact our administrative staff, email: support@npfmc.org,

Public Comment

Public comment letters will be accepted and should be submitted electronically through the links at https://www.npfmc.org/upcoming-council-meetings. The Council strongly encourages written public comment for this meeting, to avoid any potential for technical difficulties to compromise oral testimony. The written comment period is open from September 5, 2025, to September 26, 2025, and closes at 12 p.m., Alaska Time on Friday, September 26, 2025.

(Authority: 16 U.S.C. 1801 et seq.)

Dated: September 12, 2025.
Becky J. Curtis,
Acting Deputy Director, Office of Sustainable Fisheries, National Marine Fisheries Service.

[FR Doc. 2025-17873 Filed 9-15-25; 8:45 am]

BILLING CODE 3510-22-P